DEPARTMENT OF DEFENSE

Office of the Secretary

Board of Visitors, National Defense University; Notice of Federal Advisory Committee Meeting

AGENCY: Office of the Chairman Joint Chiefs of Staff, Department of Defense (DoD).

ACTION: Notice of Federal advisory committee meeting.

SUMMARY: The DoD is publishing this notice to announce that the following Federal Advisory Committee meeting of the Board of Visitors, National Defense University (BoV NDU) will take place.

DATES: Wednesday, September 25, 2024 from 10:15 a.m. to 3:15 p.m. Eastern Time (ET).

ADDRESSES: Marshall Hall, Building 62, Room 155, the National Defense University, 300 5th Avenue SW, Fort McNair, Washington, DC 20319-5066. Visitors should report to the Front Security Desk in the lobby of Marshall Hall and from there, they will be directed to the meeting room.

FOR FURTHER INFORMATION CONTACT: Ms. Joycelyn Stevens, (202) 685-0079 (Voice) joycelyn.a.stevens.civ@mail.mil; stevensj7@ndu.edu (Email). Mailing address is National Defense University, Fort McNair, Washington, DC 20319-5066. Website: http://www.ndu.edu/About/Board-of-Visitors/. The most up-to-date changes to the meeting agenda can be found at https://www.ndu.edu/About/Board-of-Visitors/BOV-Sept-25-2024.

SUPPLEMENTARY INFORMATION: Due to circumstances beyond the control of the Designated Federal Officer, the BoV NDU was unable to provide public notification required by 41 CFR 102-3.150(a) concerning its September 25, 2024 meeting. Accordingly, the Advisory Committee Management Officer for the DoD, pursuant to 41 CFR 102-3.150(b), waives the 15-calendar day notification requirement.

This meeting is being held in accordance with chapter 10 of title 5 United States Code (U.S.C.) (commonly known as the “Federal Advisory Committee Act” or “FACA”), 5 U.S.C. 552b (commonly known as the “Government in the Sunshine Act”), and 41 CFR 102-3.140 and 102-3.150. Pursuant to 5 U.S.C. 552b and 41 CFR 102-3.140 through 102-3.165, this meeting is open to the public.

Purpose of the Meeting: The purpose of the meeting will include discussion on accreditation compliance, organizational management, resource management, and other matters of interest to the NDU.

Agenda: Wednesday, September 25, 2024 from 10:15 a.m. to 3:15 p.m. Call to Order and Administrative Notes; Remarks on Joint Professional Military Education; Introduction of the Incoming NDU President; State of the University Address; Middle States Commission on Higher Education Accreditation Update; NDU Mission Assessment & Strategic Initiatives; Budget, Personnel, and Facilities Update; IT Update & NDU Connect Showcase; NDU Organizational Revision; Discussion of Public Written Comments; Board of Visitors Member Deliberation and Feedback; Wrap-up and Closing Remarks.

Meeting Accessibility: Limited space is available for observers and will be allocated on a first come, first served basis. Meeting location is handicap accessible. The Main Gate/Visitor's Gate on 2nd Street SW is open 24/7. All non-DoD, non-federally affiliated visitors must use this gate to access Fort McNair.

Base Access Requirements: All visitors without a DoD Common Access Card or U.S. military ID must be vetted in advance to gain entry onto the base. Per the U.S. Army, all non-DoD civilians are required to have a background check before being allowed on a military installation; better known as vetting. It is highly recommended that visitors undergo the pre-vetting process and apply online as detailed below.

For Pre-Vetting

To allow sufficient time for processing, access requests should be submitted no more than 14 days ahead or less than three days before the event. The visitor will receive notification via email, and, if approved, a one-day visitor's pass for entry onto the base. The visitor must print the pass and present it to the guard at the gate to enter Fort McNair.

(a) If the visitor has a valid U.S. driver's license:

(i) The visitor can apply for access online at https://pass.aie.army.mil/jbmhh/. Under Reason for Visit, select “Other.” Alternatively, the visitor can apply in person at the Fort McNair Visitor Control Center (VCC)/Police Substation (Building 65) from 8:00 a.m. to 4:00 p.m. Monday through Friday.

(b) If the visitor does not have a U.S. driver's license:

(i) The visitor must fill out a paper application in person at the Fort McNair Visitor Control Center VCC/Police Substation (Building 65) from 8:00 a.m. to 4:00 p.m. Monday through Friday.

For Vetting the Day of the Event

The visitor must apply in person at the Fort McNair VCC/Police Substation (Building 65) from 8:00 a.m. to 4:00 p.m. Monday through Friday. The visitor should plan to arrive early, as the procedure for running background checks and issuing passes can take much longer than expected.

For additional information, please go to https://home.army.mil/jbmhh/index.php/my-fort/all-services/access-gate-info.

Vehicle Search: Non-DoD, non-federally-affiliated visitors' vehicles are subject to search.

Written Statements: Pursuant to 41 CFR 102-3.105(j) and 102-3.140, and section 10(a)(3) of the FACA, written statements to the committee may be submitted to the committee at any time or in response to a stated planned meeting agenda by email or fax to Ms. Joycelyn Stevens at bov@ndu.edu or Fax (202) 685-3920. Any written statements received by 5:00 p.m. on Tuesday, September 24 will be distributed to the BoV NDU in the order received. Comments pertaining to the agenda items will be discussed during the public meeting. Any written statements received after the deadline will be provided to the members of the BoV NDU prior to the next scheduled meeting and posted on the website.

Dated: September 9, 2024.
Aaron T. Siegel,
Alternate OSD Federal Register Liaison Officer, Department of Defense.

[FR Doc. 2024-21133 Filed 9-17-24; 8:45 am]

BILLING CODE 6001-FR-P